DEPARTMENT OF THE INTERIOR

National Park Service

[NPS-WASO-NAGPRA-NPS0035575; PPWOCRADN0-PCU00RP14.R50000]

Notice of Inventory Completion: Minnesota Indian Affairs Council, St. Paul, MN

AGENCY: National Park Service, Interior.

ACTION: Notice.

SUMMARY: In accordance with the Native American Graves Protection and Repatriation Act (NAGPRA), the Minnesota Indian Affairs Council has completed an inventory of human remains and associated funerary objects and has determined that there is a cultural affiliation between the human remains and associated funerary objects and Indian Tribes or Native Hawaiian organizations in this notice. The human remains and associated funerary objects were removed from Big Stone, Chisago, Faribault, Hennepin, Grant, Ramsey, and Traverse Counties, MN, and from an unknown county in southern MN.

DATES: Repatriation of the human remains and associated funerary objects in this notice may occur on or after May 4, 2023.

ADDRESSES: Dylan Goetsch, Minnesota Indian Affairs Council, 161 St. Anthony Avenue, Suite 919, St. Paul, MN 55103, email dylan.goetsch@state.mn.us.

SUPPLEMENTARY INFORMATION: This notice is published as part of the National Park Service's administrative responsibilities under NAGPRA. The determinations in this notice are the sole responsibility of the Minnesota Indian Affairs Council. The National Park Service is not responsible for the determinations in this notice. Additional information on the determinations in this notice, including the results of consultation, can be found in the inventory or related records held by the Minnesota Indian Affairs Council.

Description

In the spring of 1951, human remains representing, at minimum, one individual, were unearthed during construction for the Theater of Seasons Café (21BS0020) in Big Stone County, MN. In January of 1997, a private citizen turned the human remains over the Minnesota Office of the State Archaeologist. On August 1, 1997, the Minnesota State Archaeologist transferred the human remains to the Minnesota Indian Affairs Council (H323). These human remains belong to a male of middle-to-late adult age. No known individual was identified. No associated funerary objects are present.

On September 14, 1931, human remains representing, at minimum, four individuals were removed from a disturbed mound during Highway 8 construction on the south side of the highway between Lindstrom and Center City in Chisago County, MN. On March 27, 2012, the human remains were transferred to the Minnesota Indian Affairs Council (H455). No known individuals were identified. No associated funerary objects are present.

On September 16, 2014, human remains representing, at minimum, one individual were recovered from a sandbar on the Blue Earth River, a tributary of the Minnesota River, southwest of Winnebago in Faribault County, MN, by a private citizen canoeing on the river. Following their recovery, these human remains were sent to the Ramsey County Medical Examiner's Office. On September 25, 2015, the human remains were transferred to the Minnesota Indian Affairs Council (H487). No known individual was identified. No associated funerary objects are present.

In 1963 or 1964, human remains representing, at minimum, one individual were unearthed on a farm in Grant County, MN, by a person working for the family that owned the land. In August of 2018, the landowners brought the human remains to the Grant County Historical Society. On September 14, 2018, the Grant County Historical Society sent the human remains to the Office of the State Archaeologist. On November 30, 2018, the human remains were transferred to the Minnesota Indian Affairs Council (H521). No known individual was identified. No associated funerary objects are present.

In 2014, Hennepin County personnel disturbed numerous burials belonging to the Shaver Mound group in Minnetonka. Following the burial disturbance, MIAC and Hamline University recovered and reburied the human remains.

Human remains representing, at minimum, one individual (a single human bone fragment) was found after the reburial and recovery and was turned over to the Minnesota Indian Affairs Council. No known individual was identified. No associated funerary objects are present.

In the fall of 2021, human remains representing, at minimum, one individual (the distal epiphysis of a human femur) was identified by Upper Sioux tribal monitors during a water main replacement project in Minnetonka and was turned over to the Minnesota Indian Affairs Council. No known individual was identified. No associated funerary objects are present.

At an unknown time, human remains representing, at minimum, eight individuals were removed from the MacMillan property in Hennepin County, MN. In 2017, two of these human remains were transferred to the Minnesota Indian Affairs Council by private citizens and six individuals were recovered by the Minnesota Indian Affairs Council during the removal of the MacMillan home (H498). No known individuals were identified. The six associated funerary objects include one Prairie du Chien chert tool, one swan river chert flake, and four quartz fragments. (In October 1999, human remains from the MacMillan property were repatriated to the Sisseton-Wahpeton Oyate of the Lake Traverse Reservation, South Dakota following publication of a Notice of Inventory Completion in the Federal Register (64 FR 43211-43222, August 9, 1999).

In 1882, human remains representing, at minimum, one individual were removed from Indian Mounds Park (21RA10) in Ramsey County, MN, by Theodore Hayes Lewis. As part of the Northwestern Archaeological Survey, Lewis collected artifacts including this human skull with a red clay “death mask” innesota. Before he left Minnesota, Lewis sold most of the collections from this survey to Reverend Edgar Mitchell. In 1905, Mitchell donated his collections to the Minnesota Historical Society, including the artifacts and human remains he received from Lewis (Lewis #746). The Minnesota Historical Society implemented a new numbering system in 1918, and these human remains were given the catalog number 3583.A2664. In 1987, the human remains were transferred to the Minnesota Indian Affairs Council (H319.16). No known individual was identified. The three associated funerary objects are one lot of loose dirt (possibly from the clay death mask), one lot of fabric fragments, and one lot of newspaper.

Sometime in the 1920s or 1930s, human remains representing, at minimum, two individuals were removed from Indian Mounds Park in Popes County, MN, by a private citizen who lived near the mounds. In 2017, the collector's daughter gave the human remains to the Office of the State Archaeologist who, in turn, transferred them to the Minnesota Indian Affairs Council (H501). No known individuals were identified. No associated funerary objects are present.

Sometime between 1920 and 1935, human remains representing, at minimum, one individual were removed from a farm in Browns Valley, Traverse County, MN, by a private citizen. On April 12, 2013, the human remains were transferred to the Minnesota Indian Affairs Council (H469). No known individual was identified. No associated funerary objects are present.

Sometime around 1950, human remains representing, at minimum, one individual were removed from a farm in Browns Valley, Traverse County, MN, by a private citizen. In December of 2018, the University of Minnesota received the human remains from the collector's daughter. On January 16, 2019, the human remains were transferred to the Minnesota Indian Affairs Council (H523). No known individual was identified. No associated funerary objects are present.

At an unknown date, human remains representing, at minimum, two individuals were removed from an unknown site in southern Minnesota and turned over to the Minnesota Bureau of Criminal Apprehension. Sometime between 1986 and 1988, these human remains were transferred to the Minnesota Indian Affairs Council (H147). No known individuals were identified. No known individuals were identified. The two associated funerary objects are one wood fragment with a nail and one ceramic sherd.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographic, historical, oral traditional, and other relevant information.

Determinations

Pursuant to NAGPRA and its implementing regulations, and after consultation with the appropriate Indian Tribes and Native Hawaiian organizations, the Minnesota Indian Affairs Council has determined that:

• The human remains described in this notice represent the physical remains of 24 individuals of Native American ancestry.

• The 11 objects described in this notice are reasonably believed to have been placed with or near individual human remains at the time of death or later as part of the death rite or ceremony.

• There is a relationship of shared group identity that can be reasonably traced between the human remains and associated funerary objects described in this notice and the Crow Creek Sioux Tribe of the Crow Creek Reservation, South Dakota; Flandreau Santee Sioux Tribe of South Dakota; Lower Sioux Indian Community in the State of Minnesota; Prairie Island Indian Community in the State of Minnesota; Santee Sioux Nation, Nebraska; Shakopee Mdewakanton Sioux Community of Minnesota; Sisseton-Wahpeton Oyate of the Lake Traverse Reservation, South Dakota; Spirit Lake Tribe, North Dakota; and the Yankton Sioux Tribe of South Dakota.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 4, 2023. If competing requests for repatriation are received, the Minnesota Indian Affairs Council must determine the most appropriate requestor prior to repatriation. Requests for joint repatriation of the human remains and associated funerary objects are considered a single request and not competing requests. The Minnesota Indian Affairs Council is responsible for sending a copy of this notice to the Indian Tribes identified in this notice.

Authority: Native American Graves Protection and Repatriation Act, 25 U.S.C. 3003, and the implementing regulations, 43 CFR 10.9, 10.10, and 10.14.

Dated: March 22, 2023.
Melanie O'Brien,
Manager, National NAGPRA Program.

[FR Doc. 2023-06919 Filed 4-3-23; 8:45 am]

BILLING CODE 4312-52-P